DEPARTMENT OF ENERGY

FEDERAL ENERGY REGULATORY COMMISSION

[Docket No. ER994235-003, et al.]

New York Independent System Operator, Inc., et al.; Electric Rate and Corporate Regulation Filings

January 23, 2001.

Take notice that the following filings have been made with the Commission:

1. New York Independent System Operator, Inc.

[Docket Nos. ER99-4235-003; ER00-798-003; ER01-461-001]

Take notice that on January 18, 2001, the New York Independent System Operator, Inc. (NYISO), tendered for filing a complete version of FERC Electric Tariff Original Volume No. 2, the Market Administration and Control Area Services Tariff, in order to comply with Commission Order No. 614, on the designation of electric rate schedules, and the Commission's December 18, 2000 Letter Order in the above-captioned dockets. The NYISO also files revisions to update its FERC Electric Tariff Original Volume No. 1, the Open Access Transmission Tariff, pursuant to the same letter order. The filings effect no substantive changes to the tariff.

The NYISO has requested an effective date of January 2, 2001 for the filing, and has requested waiver of the Commission's notice requirements.

The NYISO has requested waiver of the Commission's service requirements. The documents are available for download from the NYISO's website at www.nyiso.com. Copies will be provided upon request.

Comment date: February 8, 2001, in accordance with Standard Paragraph E at the end of this notice.

2. Duke Energy Lee, LLC

[Docket No. ER01-545-001]

Take notice that on January 17, 2001, Duke Energy Lee, LLC (Duke Lee), tendered for filing its FERC Electric Tariff, Original Volume No. 1 (Tariff) with conforming rate designations in accordance with the letter order issued in the above-captioned docket on January 5, 2001 (Letter Order). In accordance with the Letter Order, only the Tariff's rate designations were modified in order to conform to Order No. 614, and no other changes were made.

Comment date: February 7, 2001, in accordance with Standard Paragraph E at the end of this notice.

3. Duke Energy McClain, LLC

[Docket No. ER01-566-001]

Take notice that on January 17, 2001, Duke Energy McClain, LLC (Duke McClain), tendered for filing its FERC Electric Tariff, Original Volume No. 1 (Tariff) with conforming rate designations in accordance with the letter order issued in the above-captioned docket on January 3, 2001 (Letter Order). In accordance with the Letter Order, only the Tariff's rate designations were modified in order to conform to Order No. 614, and no other changes were made.

Comment date: February 7, 2001, in accordance with Standard Paragraph E at the end of this notice.

4. Duke Energy Hinds, LLC

[Docket No. ER01-691-001]

Take notice that on January 17, 2001, Duke Energy Hinds, LLC (Duke Hinds), tendered for filing its FERC Electric Tariff, Original Volume No. 1 (Tariff) with conforming rate designations in accordance with the letter order issued in the above-captioned docket on January 9, 2001 (Letter Order). In accordance with the Letter Order, only the Tariff's rate designations were modified in order to conform to Order No. 614, and no other changes were made.

Comment date: February 7, 2001, in accordance with Standard Paragraph E at the end of this notice.

5. Indianapolis Power & Light Co.

[Docket No. ER01-718-001]

Take notice that on January 17, 2001, Indianapolis Power & Light Company (IPL), tendered for filing an amendment of the First Amendment to the Interconnection, Operation and Maintenance Agreement with DTE Georgetown, L.L.C., filed with the Commission on December 18, 2000 filing in the above-referenced docket.

Copies of the amended filing were served on the Indiana Utility Regulatory Commission and DTE Georgetown, L.L.C.

Comment date: February 7, 2001, in accordance with Standard Paragraph E at the end of this notice.

6. Allegheny Energy Service Corp. on behalf of Allegheny Energy Supply Co., LLC

[Docket No. ER01-986-000]

Take notice that on January 18, 2001, Allegheny Energy Service Corporation on behalf of Allegheny Energy Supply Company, LLC (Allegheny Energy Supply), tendered for filing Service Agreement No. 109 to add one (1) new Customer to the Market Rate Tariff under which Allegheny Energy Supply offers generation services.

Allegheny Energy Supply requests a waiver of notice requirements for an effective date of January 1, 2001 for service to the Borough of Park Ridge.

Copies of the filing have been provided to the Public Utilities Commission of Ohio, the Pennsylvania Public Utility Commission, the Maryland Public Service Commission, the Virginia State Corporation Commission, the West Virginia Public Service Commission, and all parties of record.

Comment date: February 8, 2001, in accordance with Standard Paragraph E at the end of this notice.

7. American Transmission Systems, Inc.; Ohio Edison Co.; The Cleveland Electric Illuminating Co.; The Toledo Edison Co.

[Docket No. ER01-987-000]

Take notice that on January 18, 2001, American Transmission Systems, Inc., tendered for filing on behalf of itself and Ohio Edison Company, The Cleveland Electric Illuminating Company, and The Toledo Edison Company, Service Agreements for Network Integration Service and Operating Agreements for the Network Integration Transmission Service under the Ohio Retail Electric Program with Nicor Energy, L.L.C. and AES NewEnergy, Inc., pursuant to the American Transmission Systems, Inc. Open Access Tariff. These agreements will enable the parties to obtain Network Integration Service under the Ohio Retail Electric Program in accordance with the terms of the Tariff.

The proposed effective date under these agreements is January 1, 2001.

Comment date: February 8, 2001, in accordance with Standard Paragraph E at the end of this notice.

8. PJM Interconnection, LLC

[Docket No. ER01-988-000]

Take notice that on January 18, 2001, PJM Interconnection, L.L.C. (PJM), tendered for filing amendments to Part IV of the PJM Open Access Transmission Tariff to amend its generation interconnection study procedures to specify that feasibility and impact studies will be conducted on a bi-annual basis.

Copies of this filing were served upon all PJM members and each state electric utility regulatory commission in the PJM control area.

PJM requests a waiver of the Commission's 60-day notification requirement to permit an effective date of January 31, 2001.

Comment date: February 8, 2001, in accordance with Standard Paragraph E at the end of this notice.

9. Green Mountain Power Corp.

[Docket No. ER01-989-000]

Take notice that on January 18, 2001, Green Mountain Power Corporation (GMP), tendered for filing its proposed FERC Electric Tariff, Original Volume No. 4, a market-based rate power sales tariff that includes a form of umbrella service agreement and code of conduct.

GMP requests waiver of the Commission's notice of filing requirements in order to allow the proposed market-based rate tariff to become effective on January 19, 2001.

Comment date: February 8, 2001, in accordance with Standard Paragraph E at the end of this notice.

10. California Independent System Operator Corp.

[Docket No. ER01-991-000]

Take notice that on January 18, 2001, the California Independent System Operator Corporation (ISO), tendered for filing Amendment No. 37 to the ISO Tariff. The ISO states that Amendment No. 37 is intended to modify the bidding requirements for Reliability Must-Run (RMR) Unit Owners whose Units are dispatched by the ISO prior to the close of the PX Markets who chose be paid under the terms of the RMR Contract rather than through the market. Such an Owner would be exempted from the requirement that the RMR Contract Energy be bid into the PX Day-Ahead Market if it is prohibited from bidding into that market by law or regulation or because it disqualified under the terms of the PX Tariff.

The ISO requests waiver of the Commission's notice requirements and an effective date of January 18, 2001.

The ISO states that this filing has been served on the California Public Utilities Commission, the California Electricity Oversight Board, all parties to Must Run Service Agreements and all California ISO Scheduling Coordinators.

Comment date: February 8, 2001, in accordance with Standard Paragraph E at the end of this notice.

12. Southern Energy Chalk Point, LLC

[Docket No. ER01-992-000]

Take notice that on January 18, 2001, Southern Energy Chalk Point, LLC (SE Chalk Point), tendered for filing with the Federal Energy Regulatory Commission a short-term Master Power Purchase and Sale Agreement dated December 18, 2000, between Southern Company Energy Marketing, L.P. and SE Chalk Point for sales under SE Chalk Point's Market Rate Tariff, which was accepted for filing in Document No. ER00-3760-000.

Comment date: February 8, 2001, in accordance with Standard Paragraph E at the end of this notice.

13. MEP Pleasant Hill, LLC

[Docket No. ER01-993-000]

Take notice that on January 18, 2001, MEP Pleasant Hill, LLC (MEPPH), tendered for filing Service Agreement No. 2 under its FERC Electric Tariff, Volume No. 1, providing for sales of electric energy to Missouri Public Service.

Comment date: February 8, 2001, in accordance with Standard Paragraph E at the end of this notice.

14. Tampa Electric Co.

[Docket No. ER01-994-000]

Take notice that on January 18, 2001, Tampa Electric Company (Tampa Electric), tendered for filing a service agreement with Duke Energy Trading and Marketing, L.L.C. (Duke Energy), under Tampa Electric's market-based sales tariff.

Tampa Electric proposes that the service agreement be made effective on December 22, 2000.

Copies of the filing have been served on Duke Energy and the Florida Public Service Commission.

Comment date: February 8, 2001, in accordance with Standard Paragraph E at the end of this notice.

15. Tampa Electric Co.

[Docket No. ER01-995-000]

Take notice that on January 18, 2001, Tampa Electric Company (Tampa Electric), tendered for filing a service agreement with Oglethorpe Power Corporation (Oglethorpe) under Tampa Electric's market-based sales tariff.

Tampa Electric proposes that the service agreement be made effective on December 20, 2000.

Copies of the filing have been served on Oglethorpe and the Florida Public Service Commission.

Comment date: February 8, 2001, in accordance with Standard Paragraph E at the end of this notice.

16. Tampa Electric Co.

[Docket No. ER01-996-000]

Take notice that on January 18, 2001, Tampa Electric Company (Tampa Electric), tendered for filing a service agreement with Coral Power L.L.C. (Coral), under Tampa Electric's market-based sales tariff.

Tampa Electric proposes that the service agreement be made effective on December 22, 2000, and gives notice of its termination as of February 1, 2001.

Copies of the filing have been served on Coral and the Florida Public Service Commission.

Comment date: February 8, 2001, in accordance with Standard Paragraph E at the end of this notice.

17. Duke Energy Corp.

[Docket No. ER01-997-000]

Take notice that on January 18, 2001, Duke Energy Corporation (Duke), tendered for filing a Service Agreement with Engage Energy America LLC, for Non-Firm Transmission Service under Duke's Open Access Transmission Tariff.

Duke requests that the proposed Service Agreement be permitted to become effective on January 9, 2001.

Duke states that this filing is in accordance with Part 35 of the Commission's Regulations and a copy has been served on the North Carolina Utilities Commission.

Comment date: February 8, 2001, in accordance with Standard Paragraph E at the end of this notice.

18. Duke Energy Corp.

[Docket No. ER01-998-000]

Take notice that on January 18, 2001, Duke Energy Corporation (Duke), tendered for filing a Service Agreement with Engage Energy America LLC for Firm Point-to-Point Transmission Service under Duke's Open Access Transmission Tariff.

Duke requests that the proposed Service Agreement be permitted to become effective on January 9, 2001.

Duke states that this filing is in accordance with Part 35 of the Commission's Regulations and a copy has been served on the North Carolina Utilities Commission.

Comment date: February 8, 2001, in accordance with Standard Paragraph E at the end of this notice.

19. Duke Energy Corp.

[Docket No. ER01-999-000]

Take notice that on January 18, 2001, Duke Energy Corporation (Duke), tendered for filing a Service Agreement with PECO Energy Company for Firm Transmission Service under Duke's Open Access Transmission Tariff.

Duke requests that the proposed Service Agreement be permitted to become effective on December 19, 2000.

Duke states that this filing is in accordance with Part 35 of the Commission's Regulations and a copy has been served on the North Carolina Utilities Commission.

Comment date: February 8, 2001, in accordance with Standard Paragraph E at the end of this notice.

20. PJM Interconnection, LLC

[Docket No. ER01-1000-000]

Take notice that on January 18, 2001, PJM Interconnection, LLC (PJM), tendered for filing an executed interconnection service agreement between PJM and NRG Energy Center Dover LLC.

PJM requests a waiver of the Commission's 60-day notice requirement to permit the effective dates agreed to by the parties.

Copies of this filing were served upon NRG Energy Center Dover LLC and the state electric utility regulatory commissions within the PJM control area.

Comment date: February 8, 2001, in accordance with Standard Paragraph E at the end of this notice.

21. Southern Energy Potomac River, LLC

[Docket No. ER01-1001-000]

Take notice that on January 18, 2001, Southern Energy Potomac River, LLC (SE Potomac River), tendered for filing with the Federal Energy Regulatory Commission a short-term Master Power Purchase and Sale Agreement dated December 18, 2000, between Southern Company Energy Marketing, L.P. and SE Potomac River for sales under SE Potomac River's Market Rate Tariff, which was accepted for filing in Document No. ER00-3760-000.

Comment date: February 8, 2001, in accordance with Standard Paragraph E at the end of this notice.

22. Southern Energy Peaker, LLC

[Docket No. ER01-1002-000]

Take notice that on January 18, 2001, Southern Energy Peaker, LLC (SE Peaker), tendered for filing with the Federal Energy Regulatory Commission a short-term Master Power Purchase and Sale Agreement dated December 18, 2000, between Southern Company Energy Marketing, L.P. and SE Peaker sales under SE Peaker's Market Rate Tariff, which was accepted for filing in Document No. ER00-3760-000.

Comment date: February 8, 2001, in accordance with Standard Paragraph E at the end of this notice.

23. Dominion Energy, Inc.; Dominion Cogen NY, Inc.; State Dam Corp.; State Dam II, LLC; Sissonville Corp.; Sissonville II, LLC

[Docket No. EC01-58-000]

Take notice that on January 17, 2001, Dominion Energy, Inc., and Dominion Cogen NY, Inc. (collectively Sellers), and State Dam Corporation, State Dam II, LLC, Sissonville Corporation and Sissonville II, LLC (Purchasers) filed with the Federal Energy Regulatory Commission (Commission) a joint application (Application) pursuant to Section 203 of the Federal Power Act for authorization of both the disposition and acquisition of jurisdictional facilities whereby Sellers will sell for cash their one-half limited and general partnership interests in NYSD Limited Partnership (NYSD) and Sissonville Limited Partnership (Sissonville) to the Purchasers. The Purchasers and Sellers have requested confidential treatment of the Forms of Partnership Interest Purchase Agreement included as an exhibit to the Application pursuant to Section 388.112 of the Commission's regulations. NYSD and Sissonville are exempt wholesale generators that own hydroelectric generating projects, interconnection facilities and Commission jurisdictional contracts. The NYSD facility is a 10.83 MW facility located on the Mohawk River near the Town of Waterford and City of Cohoes in Saratoga and Albany Counties, New York. The Sissonville facility is a 2.3 MW facility located on the Raquette River in the Town of Potsdam, St. Lawrence County, New York.

Comment date: February 7, 2001, in accordance with Standard Paragraph E at the end of this notice.

24. Bangor Hydro-Electric Co.; Central Maine Power Co.; National Grid USA; Northeast Utilities Service Co.; The United Illuminating Co.; Vermont Electric Power Co.; ISO New England Inc.

[Docket No. RT01-86-000]

Take notice that on January 16, 2001, pursuant to Order Nos. 2000 and 2000-A and the Commission's regulations thereunder, Bangor Hydro-Electric Company, Central Maine Power Company, National Grid USA, Northeast Utilities Service Company, The United Illuminating Company, Vermont Electric Power Company and ISO New England Inc., collectively, Petitioners, filed a Joint Petition for Declaratory Order to form the New England Regional Transmission Organization.

Comment date: February 22, 2001, in accordance with Standard Paragraph E at the end of this notice.

25. New York Independent System Operator, Inc.; Central Hudson Gas & Electric Corp.; Consolidated Edison Company of New York, Inc.; Niagara Mohawk Power Corp.; New York State Electric & Gas Corp.; Orange & Rockland Utilities, Inc.; Rochester Gas and Electric Corp.

[Docket No. RT01-95-000]

Take notice that on January 16, 2001, pursuant to Section 35.34(h) of the Commission's regulations, and the Commission's July 20, 2000 “Notice of Guidance for Processing Order No. 2000 Filings” in Docket No. RM99-2-000, the New York Independent System Operator, Inc., Central Hudson Gas & Electric Corporation, Consolidated Edison Company of New York, Inc., Niagara Mohawk Power Corporation, Orange & Rockland Utilities, Inc. and Rochester Gas and Electric Corporation, jointly submitted an Order No. 2000 compliance filing.

Comment date: February 22, 2001, in accordance with Standard Paragraph E at the end of this notice.

26. RTO Informational Filings

[Docket No. RT01-1-000]

Take notice that on January 16, 2001, the following listed entities tendered for filing voluntary informational filings in response to the Commission's Order No. 2000.¹

¹ Regional Transmission Organizations, Order No. 2000, 65 Fed. Reg. 809 (January 6, 2000), FERC Stats. & Regs. ¶ 31,089 (1999), order on reh'g, Order No. 2000-A, 65 Fed. Reg. 12,088 (March 8, 2000), FERC Stats. & Regs. ¶ 31,092 (2000).

Ontario Independent Electricity Market Operator; Massachusetts Municipal Wholesale Electric Co. (Connecticut Municipal Electric Energy Cooperative, Vermont Public Power Supply Authority, Braintree Electric Light Department, Chicopee Municipal Lighting Plant, New Hampshire Electric Cooperative, Inc., Reading Municipal Light Department, South Hadley Electric Light Department, Taunton Municipal Lighting Plant, and Westfield Gas & Electric Light Department); NB Power Corp. (Nova Scotia Power Inc., Maritime Electric Company, Limited, Maine Electric Power Co., and Maine Public Service Co.).

27. Maine Electric Power Co.; San Diego Gas & Electric Co.; Pacific Gas and Electric Co.; California Independent System Operator Corp.; Citizens Communications Co.; Fitchburg Gas and Electric Light Co.; Concord Electric Co. and Exeter & Hampton Electric Light Co.; Southern California Edison Co.; California Power Exchange Corp.; NSTAR Services Co.; Central Vermont Public Service Corp.

[Docket Nos. RT01-19-000; RT01-82-000; RT01-83-000; RT01-85-000; RT01-89-000; RT01-90-000; RT01-92-000; RT01-93-000; RT01-94-000; RT01-97-000]

Citizens Communications Co.; Green Mountain Power Corp., and Vermont Electric and Power Co.

[Not consolidated]

Take notice that on January 16, 2001, the entities listed in the caption above made compliance filings pursuant to 18 CFR 35.34(c) and the Commission's Order No. 2000.²

² Regional Transmission Organizations, Order No. 2000, 65 Fed. Reg. 809 (January 6, 2000), FERC Stats. & Regs. ¶ 31,089 (1999), order on reh'g, Order No. 2000-A, 65 Fed. Reg. 12,088 (March 8, 2000), FERC Stats. & Regs. ¶ 31,092 (2000).

Comment date: February 22, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-2544 Filed 1-29-01; 8:45 am]

BILLING CODE 6717-01-P